DEPARTMENT OF JUSTICE

Office of Justice Programs

[OJP (OJJDP) Docket No. 1608]

Meeting of the Federal Advisory Committee on Juvenile Justice

AGENCY: Office of Juvenile Justice and Delinquency Prevention, Office of Justice Programs, U.S. Department of Justice.

ACTION: Notice of meeting.

SUMMARY: The Office of Juvenile Justice and Delinquency Prevention (OJJDP) announces a meeting of the Federal Advisory Committee on Juvenile Justice (FACJJ).

DATES AND LOCATIONS: The meeting will take place at the Office of Justice Programs, 810 Seventh Street NW., Washington, DC 20531, on Thursday, October 18, 2012, from 8:30 a.m. to 5 p.m. ET, and Friday, October 19, from 8:30 a.m. to 1 p.m. ET.

FOR FURTHER INFORMATION CONTACT: Robin Delany-Shabazz, Designated Federal Official, OJJDP, Robin.Delany-Shabazz@usdoj.gov, or 202-307-9963. [Note: This is not a toll-free number.]

SUPPLEMENTARY INFORMATION: The Federal Advisory Committee on Juvenile Justice (FACJJ), established pursuant to Section 3(2)A of the Federal Advisory Committee Act (5 U.S.C. App.2), will meet to carry out its advisory functions under Section 223(f)(2)(C-E) of the Juvenile Justice and Delinquency Prevention Act of 2002. The FACJJ is composed of representatives from the states and territories. FACJJ member duties include: reviewing Federal policies regarding juvenile justice and delinquency prevention; advising the OJJDP Administrator with respect to particular functions and aspects of OJJDP; and advising the President and Congress with regard to State perspectives on the operation of OJJDP and Federal legislation pertaining to juvenile justice and delinquency prevention. More information may be found at www.facjj.org.

Meeting Agenda: The agenda will include: (a) Welcome and introductions; (b) remarks from the Administrator; (c) subcommittee meetings (closed to public); (d) reports and discussions; (e) presentation by and discussion with staff of the Juvenile Justice Evaluation Center; (f) presentations on trends in state juvenile justice-related legislation and on juvenile justice reform; (g) other business; and (h) adjournment.

For security purposes, members of the public who wish to attend must pre-register online at www.facjj.org by Tuesday, October 16, 2012. Should problems arise with web registration, call Daryel Dunston at 240-221-4343. [Note: these are not toll-free telephone numbers.] Photo identification will be required. Additional identification documents may be required. Space is limited.

Written Comments: Interested parties may submit written comments in advance to Robin Delany-Shabazz, Designated Federal Official, by email to Robin.Delany-Shabazz@usdoj.gov no later than Tuesday, October 16, 2012. Alternatively, fax your comments to 202-307-2819 and call Joyce Mosso Stokes at 202-305-4445 to ensure that they are received. [Note: These are not toll-free numbers.]

Marilyn M. Roberts,
Deputy Administrator for Programs, Office of Juvenile Justice and Delinquency Prevention.

[FR Doc. 2012-24857 Filed 10-9-12; 8:45 am]

BILLING CODE 4410-18-P